DEPARTMENT OF HOMELAND SECURITY

Coast Guard

33 CFR Part 165

[Docket No. USCG-2019-0906]

Safety Zones; Fireworks Displays in the Fifth Coast Guard District

AGENCY: Coast Guard, DHS.

ACTION: Notice of enforcement of regulation.

SUMMARY: The Coast Guard will enforce the Penn's Landing, Delaware River, Philadelphia, PA, safety zone from 5:45 p.m. through 6:30 p.m. on December 31, 2019, and from 11:45 p.m. on December 31, 2019, through 12:30 a.m. on January 1, 2020. This is to ensure safety of life on the navigable waters of the United States immediately prior to, during, and immediately after the fireworks displays. Our regulation for safety zones of fireworks displays in the Fifth Coast Guard District identifies the area for this event at Penn's Landing in Philadelphia, PA. During the enforcement periods vessels may not enter, remain in, or transit through the safety zones unless authorized by the Captain of the Port or on scene designated Coast Guard patrol personnel.

DATES: The regulations in the table to 33 CFR 165.506 at (a)(16) will be enforced from 5:45 p.m. through 6:30 p.m. on December 31, 2019, and from 11:45 p.m. on December 31, 2019, through 12:30 a.m. on January 1, 2020.

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION: The Coast Guard will enforce the safety zone in the Table to 33 CFR 165.506, entry (a)(16), for the Delaware River Waterfront Corporation New Year's Eve Fireworks displays. This action is necessary to ensure safety of life on the navigable waters of the United States immediately prior to, during, and immediately after the fireworks displays. Our regulation for safety zones of fireworks displays within the Fifth Coast Guard District, table to § 165.506, entry (a)(16) specifies the location of the regulated area as all waters of Delaware River, adjacent to Penn's Landing, Philadelphia, PA, within 500 yards of a fireworks barge at approximate position latitude 39°56′49″ N, longitude 075°08′11″ W. During the enforcement periods, as reflected in § 165.506(d), vessels may not enter, remain in, or transit through the safety zones unless authorized by the Captain of the Port or on scene designated Coast Guard patrol personnel.

In addition to this notice of enforcement in the Federal Register, the Coast Guard plans to provide notification of this enforcement period via broadcast notice to mariners.

Dated: November 29, 2019.
Scott E. Anderson,
Captain, U.S. Coast Guard, Captain of the Port, Delaware Bay.

[FR Doc. 2019-26471 Filed 12-6-19; 8:45 am]

BILLING CODE 9110-04-P